DEPARTMENT OF COMMERCE

National Oceanic and Atmospheric Administration

RIN 0648-XB137

New England Fishery Management Council; Public Meeting

AGENCY: National Marine Fisheries Service (NMFS), National Oceanic and Atmospheric Administration (NOAA), Commerce.

ACTION: Notice; public meeting.

SUMMARY: The New England Fishery Management Council's (Council) Groundfish Committee will meet to consider actions affecting New England fisheries in the exclusive economic zone (EEZ).

DATES: The meeting will be held on Wednesday, April 18, 2012 at 9 a.m.

ADDRESSES: The meeting will be held at the Holiday Inn by the Bay, 88 Spring Street, Portland, ME 04101; telephone: (207) 775-2311; fax: (207) 772-4017.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The items of discussion in the committee's agenda are as follows:

The Groundfish Committee will meet to continue development of several management actions. The Committee will continue development of an action to modify measures that apply to sectors. This discussion is expected to focus primarily on monitoring issues, and may include discussion of Annual Catch Entitlement (ACE) carryover provisions and other measures relevant to sector operations. The Committee will discuss an action to establish acceptable biological catches (ABCs) and annual catch limits (ACLs) for fishing years 2013 and 2014. Setting ABCs/ACLs may require modification of recreational fishing measures, and the Committee may discuss this issue. The Committee may also discuss adopting additional sub-ACLs for the scallop fishery and pursuing the Mixed Stock Exception for SNE/MA windowpane flounder. The Committee may discuss possible modifications to groundfish closed areas and the recent Endangered Species Act listing of Atlantic Sturgeon.

Other business may also be discussed.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Paul J. Howard (see ADDRESSES) at least 5 days prior to the meeting date.

Authority: 16 U.S.C. 1801 et seq.

Dated: March 27, 2012.
Tracey L. Thompson,
Acting Director, Office of Sustainable Fisheries, National Marine Fisheries Service.

[FR Doc. 2012-7661 Filed 3-29-12; 8:45 am]

BILLING CODE 3510-22-P